DEPARTMENT OF LABOR

Employment and Training Administration

[TA-W-71,466]

Borg Warner Diversified Transmission Products, Inc., Muncie, IN; Notice of Termination of Investigation

Pursuant to Section 223 of the Trade Act of 1974, as amended, an investigation was initiated on June 30, 2009 in response to a company official petition filed on behalf of workers of Borg Warner Diversified Transmission Products, Inc., Muncie, Indiana.

The group of workers employed by the subject firm is covered by an earlier petition (TA-W-71,378) filed on June 22, 2009 that is the subject of an ongoing investigation for which a determination has not yet been issued. Consequently, further investigation in this case would serve no purpose, and the investigation under this petition has been terminated.

Signed at Washington, DC, this 7th day of July 2009.
Richard Church,
Certifying Officer, Division of Trade Adjustment Assistance.

[FR Doc. E9-18060 Filed 7-28-09; 8:45 am]

BILLING CODE 4510-FN-P